DEPARTMENT OF DEFENSE

GENERAL SERVICES ADMINISTRATION

NATIONAL AERONAUTICS AND SPACE ADMINISTRATION

48 CFR Parts 9, 11, and 52

[FAC 2005-73; Item II; Docket No. 2014-0053; Sequence No. 1]

Federal Acquisition Regulation; Technical Amendments

AGENCY: Department of Defense (DoD), General Services Administration (GSA), and National Aeronautics and Space Administration (NASA).

ACTION: Final rule.

SUMMARY: This document makes amendments to the Federal Acquisition Regulation (FAR) in order to make editorial changes.

DATES: Effective: April 29, 2014.

FOR FURTHER INFORMATION CONTACT: The Regulatory Secretariat Division (MVCB), 1800 F Street NW., 2nd Floor, Washington, DC 20405, 202-501-4755, for information pertaining to status or publication schedules. Please cite FAC 2005-73, Technical Amendments.

SUPPLEMENTARY INFORMATION: In order to update certain elements in 48 CFR Parts 9, 11, and 52 this document makes editorial changes to the FAR.

List of Subject in 48 CFR Parts 9, 11, and 52

Government procurement.

Dated: April 11, 2014.
William Clark,
Acting Director, Office of Government-wide Acquisition Policy, Office of Acquisition Policy, Office of Government-wide Policy.

Therefore, DoD, GSA, and NASA amend 48 CFR parts 9, 11, and 52 as set forth below:

1. The authority citation for 48 CFR part 9 continues to read as follows:

Authority: 40 U.S.C. 121(c); 10 U.S.C. chapter 137; and 51 U.S.C. 20113.

PART 9—CONTRACTOR QUALIFICATIONS

9.105-2 [Amended]

2. Amend section 9.105-2 by removing from the introductory text of paragraph (b)(2)(i) the Web site “www.cpars.csd.disa.mil” and adding “www.cpars.gov” in its place.

9.203 [Amended]

3. Amend section 9.203 by removing from paragraph (b)(2) the Web site “http://assist.daps.dla.mil” and adding “https://assist.dla.mil/online/start/” in its place.

PART 11—DESCRIBING AGENCY NEEDS

4. The authority citation for 48 CFR part 11 is revised to read as follows:

Authority: 40 U.S.C. 121(c); 10 U.S.C. chapter 137; and 51 U.S.C. 20113.

11.201 [Amended]

5. Amend section 11.201 by—

a. Removing from paragraph (d)(2)(i) the Web site “http://assist.daps.dla.mil” and adding “https://assist.dla.mil/online/start/” in its place;

b. Removing from paragraph (d)(2)(ii) the Web site “http://assist.daps.dla.mil/quicksearch” and adding “http://quicksearch.dla.mil/” in its place; and

c. Removing from paragraph (d)(3)(i) the Web site “http://assist.daps.dla.mil/wizard” and adding “https://assist.dla.mil/wizard/index.cfm” in its place.

PART 52—SOLICITATION PROVISIONS AND CONTRACT CLAUSES

6. The authority citation for 48 CFR part 52 continues to read as follows:

Authority: 40 U.S.C. 121(c); 10 U.S.C. chapter 137; and 51 U.S.C. 20113.

7. Amend section 52.203-17, by revising the clause heading and date to read as follows:

52.203-17 Contractor Employee Whistleblower Rights and Requirement To Inform Employees of Whistleblower Rights.

* * * * *

Contractor Employee Whistleblower Rights and Requirement To Inform Employees of Whistleblower Rights (APR 2014)

* * * * *

8. Amend section 52.208-8 by—

a. Revising the date of the clause; and

b. Removing from paragraph (a) of the definition “Federal helium supplier” the Web site “http://www.nm.blm.gov/www/amfo/amfo_home.html” and adding “http://www.blm.gov/nm/st/en/fo/Amarillo_Field_Office.html” in its place.

The revised text reads as follows:

52.208-8 Required Sources for Helium and Helium Usage Data.

* * * * *

Required Sources for Helium and Helium Usage Data (APR 2014)

* * * * *

9. Amend section 52.211-2 by—

a. Revising the date of the provision;

b. Removing from paragraph (a)(1) the Web site “http://assist.daps.dla.mil” and adding “https://assist.dla.mil/online/start/” in its place;

c. Removing from paragraph (a)(2) the Web site “http://assist.daps.dla.mil/quicksearch” and adding “http://quicksearch.dla.mil/” in its place; and

d. Removing from paragraph (b)(1) the Web site “http://assist.daps.dla.mil/wizard” and adding “https://assist.dla.mil/wizard/index.cfm” in its place.

The revised text reads as follows:

52.211-2 Availability of Specifications, Standards, and Data Item Descriptions Listed in the Acquisition Streamlining and Standardization Information System (ASSIST).

* * * * *

Availability of Specifications, Standards, and Data Item Descriptions Listed in the Acquisition Streamlining and Standardization Information System (ASSIST) (APR 2014)

* * * * *

10. Amend section 52.212-1 by—

a. Revising the date of the provision;

b. Removing from paragraph (i)(2)(i) the Web site “http://assist.daps.dla.mil” and adding “https://assist.dla.mil/online/start/” in its place;

c. Removing from paragraph (i)(2)(ii) the Web site “http://assist.daps.dla.mil/quicksearch” and adding “http://quicksearch.dla.mil/” in its place; and

d. Removing from paragraph (i)(3)(i) the Web site “http://assist.daps.dla.mil/wizard” and adding “https://assist.dla.mil/wizard/index.cfm” in its place.

The revised text reads as follows:

52.212-1 Instructions to Offerors—Commercial Items.

* * * * *

Instructions to Offerors—Commercial Items (APR 2014)

* * * * *

[FR Doc. 2014-08745 Filed 4-28-14; 8:45 am]

BILLING CODE 6820-EP-P